DEPARTMENT OF THE TREASURY

Submission for OMB Review; Comment Request

November 3, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before December 11, 2006 to be assured of consideration.

Internal Revenue Service (IRS)

OMB Number: 1545-1696.

Type of Review: Extension.

Title: Political Organization Report on Contributions and Expenditures.

Form: 8872.

Description: Internal Revenue Code section 527(j) requires certain political organizations to report certain contributions received and expenditures made after July 1, 2000. Every section 527 political organization that accepts a contribution or makes an expenditure for an exempt function during the calendar year must file Form 8872, except for: A political organization that is not required to file Form 8871, or a state or local committee of a political party or political committee of a state or local candidate.

Respondents: Not-for-profit institutions.

Estimated Total Burden Hours: 431,200 hours.

OMB Number: 1545-2025.

Type of Review: Extension.

Title: Clean Renewable Energy Bond Credit and Gulf Bond Credit.

Form: 8912.

Description: Form 8912, Clean Renewable Energy Bond Credit and Gulf Bond Credit, was developed to carry out the provisions of new Internal Revenue Code sections 54 and 1400N(l). The form provides a means for the taxpayer to compute the clean renewable energy bond credit and the Gulf bond credit.

Respondents: Businesses and other for-profit institutions.

Estimated Total Burden Hours: 5,955 hours.

OMB Number: 1545-1440.

Title: Conduit Arrangements Regulations.

Type of Review: Extension.

Description: This document contains regulations relating to when the area director may re-characterize a financing arrangement as a conduit arrangement. Such re-characterization will affect the amount of withholding tax due on financing transactions that are part of the financing arrangement. These regulations will affect withholding agents and foreign investors.

Respondents: Businesses and other for-profit institutions.

Estimated Total Burden Hours: 10,000 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E6-19016 Filed 11-8-06; 8:45 am]

BILLING CODE 4830-01-P